DEPARTMENT OF LABOR

Bureau of Labor Statistics

Proposed Collection; Comment Request

ACTION: Notice.

SUMMARY: The Department of Labor, as part of its continuing effort to reduce paperwork and respondent burden, conducts a pre-clearance consultation program to provide the general public and Federal agencies an opportunity to comment on proposed and/or continuing collections of information in accordance with the Paperwork Reduction Act of 1995 (PRA95) (44 U.S.C. 3506(c) (2)(A)). This program helps to ensure that requested data can be provided in the desired format, reporting burden (time and financial resources) is minimized, collection instruments are clearly understood, and the impact of collection requirements on respondents can be properly assessed. The Bureau of Labor Statistics (BLS) is soliciting comments concerning the proposed revision of the “Report on Occupational Employment.” A copy of the proposed information collection request (ICR) can be obtained by contacting the individual listed in the Addresses section of this notice.

DATES: Written comments must be submitted to the office listed in the Addresses section of this notice on or before April 17, 2001.

ADDRESSES: Send comments to Ausie B. Grigg, Jr., BLS Clearance Officer, Division of Management Systems, Bureau of Labor Statistics, Room 3255, 2 Massachusetts Avenue, NE., Washington, DC 20212, telephone number 202-691-7628 (this is not a toll free number).

FOR FURTHER INFORMATION CONTACT: Ausie B. Grigg, Jr., BLS Clearance Officer, telephone number 202-691-7628. (See Addresses section.)

SUPPLEMENTARY INFORMATION:

I. Background

The Occupational Employment Statistics (OES) survey is a Federal/State establishment survey of wage and salary workers designed to produce data on current occupational employment and wages. OES survey data assist in the development of employment and training programs established by the Workforce Investment Act of 1998, the Job Training Partnership Act (JTPA) of 1982, and the Perkins Vocational Education Act of 1984.

The OES program operates a periodic mail survey of a sample of non-farm establishments conducted by all fifty States, Guam, Puerto Rico, the District of Columbia, and the Virgin Islands. Over three-year periods, data on occupational employment and wages are collected by industry at the two- and three-digit Standard Industrial Classification (SIC) levels. The U.S. Department of Labor also uses OES data in the administration of the Alien Labor Certification process under the Immigration Act of 1990.

II. Desired Focus of Comments

The Bureau of Labor Statistics is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The BLS plans to make several changes to the processes and procedures used to collect data in the OES program.

We plan to evaluate whether the number of different survey forms used in the OES survey (currently 82 different forms) can be reduced when the North American Industry Classification System (NAICS) is introduced in the 2002 OES program (October 12, November 12, and December 12, 2002 reference dates). The evaluation will take place after the results of the 2002 survey staffing patterns have been examined.

The current survey reference period is a single quarter. In order to more properly reflect the annual average employment and wages, consideration is being given to using two or more quarters as reference periods. (The OES sample size would not be increased with a change to multiple reference periods.)

Together with our State partners, the BLS is exploring tailoring the mail questionnaire to specific respondents in order to reduce respondent burden. This customization could include using a reduced occupation list on the form to make the list specific for the intended establishment.

Currently, the front of the survey form solicits information on industry, operating status, total number of workers, and contact person for the establishment. In the past, the OES program asked for the total number of employees working in Research and Development. In this proposed revision, the BLS is requesting the flexibility to replace such questions with question(s) that may assist in the evaluation of changes in workforce dynamics, such as the introduction of new technologies (e.g., e-commerce).

The BLS and the States plan to test, and implement if the test is successful, collection of OES data by electronic means, including using the Internet.

Type of Review: Revision of a currently approved collection.

Agency: Bureau of Labor Statistics.

Title: Report on Occupational Employment.

OMB Number: 1220-0042.

Affected Public: Business or other for-profit; not-for-profit institutions; and State, Local or Tribal Government.

Frequency: Annual.

Total Responses: 317,492.

Average Time Per Response: 45 minutes.

Estimated Total Burden Hours: 238,119.

Total Burden Cost (capital/startup): $0.

Total Burden Cost (operating/maintenance): $0.

Comments submitted in response to this notice will be summarized and/or included in the request for Office of Management and Budget approval of the information collection request; they also will become a matter of public record.

Signed at Washington, DC, this 12th day of February 2001.
W. Stuart Rust, Jr.,
Chief, Division of Management Systems, Bureau of Labor Statistics.

[FR Doc. 01-3992 Filed 2-15-01; 8:45 am]

BILLING CODE 4510-24-P